DEPARTMENT OF HOMELAND SECURITY

Coast Guard

[Docket No. USCG-2020-0041]

National Merchant Marine Personnel Advisory Committee; Initial Solicitation for Members

AGENCY: U.S. Coast Guard, Department of Homeland Security.

ACTION: Request for applications.

SUMMARY: The Coast Guard is requesting applications from persons in interested in membership on the National Merchant Marine Personnel Advisory Committee (“Committee”). This recently established Committee will advise the Secretary of the Department of Homeland Security on matters relating to personnel in the United States merchant marine, including the training, qualifications, certification, documentation, and fitness of mariners. Please read the notice for description of Committee positions we are seeking to fill.

DATES: Your completed application should reach the Coast Guard on or before July 14, 2020.

ADDRESSES: Applicants should send a cover letter expressing interest in an appointment to the National Merchant Marine Personnel Advisory Committee and a resume detailing their experience. We will not accept a biography.

Applications should be submitted: via one of the following methods:

• By Email: Megan.C.Johns@uscg.mil. Subject Line: N-MERPAC (preferred).

• By Fax: 202-372-4908; ATTN: Megan Johns Henry, Alternate Designated Federal Officer; or

• By Mail: Megan Johns Henry, Alternate Designated Federal Officer, Commandant (CG-MMC-2), U.S. Coast Guard Stop 7509, 2703 Martin Luther King Jr. Ave. SE, Washington, DC 20593-7509.

FOR FURTHER INFORMATION CONTACT: Megan Johns Henry, Alternate Designated Federal Officer of the Merchant Marine Personnel Advisory Committee; Telephone 202-372-2357; or Email at Megan.C.Johns@uscg.mil.

SUPPLEMENTARY INFORMATION: The National Merchant Marine Personnel Advisory Committee is a Federal advisory committee. It will operate under the provisions of the Federal Advisory Committee Act, 5 U.S.C. Appendix, and the administrative provisions in Section 601 of the Frank LoBiondo Coast Guard Authorization Act of 2018 (specifically, 46 U.S.C. 15109).

The Committee was established on December 4, 2019, by the Frank LoBiondo Coast Guard Authorization Act of 2018, which added section 15103, National Merchant Marine Personnel Advisory Committee, to Title 46 of the U.S. Code. The Committee will advise the Secretary of Homeland Security on matters relating to personnel in the United States merchant marine, including the training, qualifications, certification, documentation, and fitness of mariners.

The Committee is required to meet at least once a year in accordance with 46 U.S.C. 15109(a). We expect the Committee to meet at least twice a year, but it may meet more frequently. The meetings are generally held in cities that have high concentrations of maritime personnel and related marine industry businesses.

All members serve at their own expense and receive no salary or other compensation from the Federal Government. Members may be reimbursed, however, for travel and per diem in accordance with Federal Travel Regulations.

Under provisions in 46 U.S.C. 15109(f)(6), if you are appointed as a member of the Committee, your membership term will expire on December 31 of the third full year after the effective date of your appointment. The Secretary may require an individual to have passed an appropriate security background examination before appointment to the Committee, 46 U.S.C. 15109(f)(4).

In this initial solicitation for Committee members, we will consider applications for all positions, which include:

• United States citizens holding active licenses or certificates issued under 46 U.S.C. chapter 71 or merchant mariner documents issued under 46 U.S.C. chapter 73, including:

○ Three credentialed deck officers who represent merchant marine deck officers, of which: (1) Two shall be endorsed for oceans route of unlimited tonnage; (2) one with an endorsement for an inland or river route of limited or unlimited tonnage; (3) two deck officers endorsed as Master of Towing Vessels; (4) one with significant tanker experience and; (5) to the extent practicable, one shall represent labor and one shall represent management.

○ Three credentialed engineering officers, of which: (1) Two shall be endorsed as Chief Engineer of unlimited horsepower; (2) one endorsed as either a Chief Engineer of limited horsepower or Designated Duty Engineer; and; (3) to the extent practicable, one shall represent labor and one shall represent management.

○ Two credentialed with ratings: (1) One of which shall be endorsed as able bodied seamen; and (2) one shall be endorsed as a qualified member of the engine department; and

○ One credentialed deck officer endorsed as first class pilot who represents merchant marine pilots;

• Six marine educators, including:

○ Three marine educators who represent the maritime academies, of which: (1) Two represent the State maritime academies (and are jointly recommended by such academies); and (2) one represents either the State or United States Merchant Marine Academy;

○ Three marine educators who represent other maritime training institutions, and of which one may also represent the small vessel industry:

• Two individuals who represent shipping companies employed in ship operation management; and,

• Two individuals who represent the general public.

If you are selected as a member drawn from the general public, you will be appointed and serve as a Special Government Employee as defined in section 18 U.S.C. 202(a). As a candidate for appointment as a Special Government Employee, applicants are required to complete a Confidential Financial Disclosure Report (OGE Form 450) for new entrants and if appointed as a member must submit Form 450 annually. The Coast Guard may not release the reports or the information in them to the public except under an order issued by a Federal Court or as otherwise provided under the Privacy Act (5 U.S.C 552a). Only the Designated U.S. Coast Guard Ethics Official or his or her designee may release a Confidential Financial Disclosure Report. Applicants can obtain this form by going to the website of the Office of Government Ethics (www.oge.gov), or by contacting or emailing the individual listed above in FOR FURTHER INFORMATION CONTACT section. Applications for members who will serve to represent the general public must be accompanied by a completed OGE Form 450.

Registered lobbyists are not eligible to serve on Federal Advisory Committees in an individual capacity. See “Revised Guidance on Appointment of Lobbyists to Federal Advisory Committees, Boards and Commissions” (79 FR 47482, August 13, 2014). Registered lobbyists are “lobbyists,” as defined in 2 U.S.C. 1602, who are required by 2 U.S.C. 1603 to register with the Secretary of the Senate and the Clerk of the House of Representatives.

The Department of Homeland Security does not discriminate in selection of Committee members based on race, color, religion, sex, national origin, political affiliation, sexual orientation, gender identity, marital status, disabilities and genetic information, age, membership in an employee organization, or any other non-merit factor. The Department of Homeland Security strives to achieve a widely diverse candidate pool for all of its recruitment selections.

If you are interested in applying to become a member of the Committee, send your cover letter and resume to Megan Johns Henry, Alternate Designated Federal Officer of the National Merchant Marine Personnel Advisory Committee via one of the transmittal methods in the ADDRESSES section by the deadline in the DATES section of this notice. If you send your application to us via email, we will send you an email confirming receipt of your application.

Dated: May 7, 2020.
Jeffrey G. Lantz,
Director of Commercial Regulations and Standards.

[FR Doc. 2020-10382 Filed 5-14-20; 8:45 am]

BILLING CODE 9110-04-P